DEPARTMENT OF THE INTERIOR

National Park Service

National Register of Historic Places; Weekly Listing of Historic Properties

Pursuant to (36 CFR 60.13(b, c)) and (36 CFR 63.5), this notice, through publication of the information included herein, is to apprise the public as well as governmental agencies, associations and all other organizations and individuals interested in historic preservation, of the properties added to, or determined eligible for listing in, the National Register of Historic Places from June 1 to June 6, 2009.

For further information, please contact Edson Beall via: United States Postal Service mail, at the National Register of Historic Places, 2280, National Park Service, 1849 C St., NW., Washington, DC 20240; in person (by appointment), 1201 Eye St., NW., 8th floor, Washington, DC 20005; by fax, 202-371-2229; by phone, 202-354-2255; or by e-mail, Edson_Beall@nps.gov.

Dated: July 27, 2009.
J. Paul Loether,
Chief, National Register of Historic Places/ National Historic Landmarks Program.

KEY: State, County, Property Name, Address/Boundary, City, Vicinity, Reference Number, Action, Date, Multiple Name

ARIZONA

Pima County

Aldea Linda Residential Historic District, 4700-5000 block E. Calle Jabali, E. 22nd St., 1100 block S. Swan Rd., Tucson, 09000371, Listed, 6/05/09

ARKANSAS

Clay County

Rector Commercial Historic District, Bounded by St. Louis and Southwestern Railroad tracks on the E. and S., S. Dodd on the W., 3rd St. on the N., Rector, 09000369, Listed, 6/01/09

Pulaski County

Lee, Robert E., School, 3805 W. 12th St., Little Rock, 09000370, Listed, 6/02/09

CALIFORNIA

Humboldt County

Sweasey Theater—Loew's State Theater, 412 G St., Eureka, 09000372, Listed, 6/05/09

ILLINOIS

Kankakee County

Bradley, B. Harley, House and Stable, 701 S. Harrison Ave., Kankakee, 09000374, Listed, 6/02/09

MINNESOTA

Crow Wing County

Franklin Junior High School, 1001 Kingwood St., Brainerd, 09000406, Listed, 6/04/09

NEW YORK

Chenango County

Eaton Family Residence—Jewish Center of Norwich, 72 S. Broad St., Norwich, 09000375, Listed, 6/04/09

Erie County

E. & B. Holmes Machinery Company Building, 55-59 Chicago St., Buffalo, 09000376, Listed, 6/02/09

NORTH CAROLINA

Mecklenburg County

Davidson Historic District, Bounded by N. Main and Beaty Sts., Catawba Ave. Mock and Concord Rds., Pat Stough and Dogwood Lns., Davidson College, Davidson, 09000381, Listed, 6/01/09

Wake County

Wendell Boulevard Historic District, Wendell Blvd., Mattox St., Old Zebulon Rd., Buffalo St. and Main St., Wendell, 09000382, Listed, 6/03/09 (Wake County MPS)

NORTH DAKOTA

Billings County

Custer Military Trail Historic Archaeological District, Address Restricted, Medora vicinity, 08001293, Listed, 6/05/09

PENNSYLVANIA

Berks County

Alleghany Mennonite Meetinghouse, 39 Horning Rd., Brecknock Township, 09000384, Listed, 6/06/09

Franklin County

Kennedy, Robert, Memorial Presbyterian Church, 11799 Mercersburg Rd., Montgomery, 09000385, Listed, 6/06/09

Philadelphia County

Center City West Commercial Historic District (Boundary Increase), Roughly bounded by the Center City West Historic District, S. 15th St., Locust St. and S. Sydenham St., Philadelphia, 09000388, Listed, 6/01/09

SOUTH CAROLINA

Aiken County

Immanuel School, 120 York St. NE, Aiken, 09000389, Listed, 6/03/09

Greenville County

Fountain Inn High School, 315 N. Main St., Fountain Inn, 09000390, Listed, 6/03/09

VIRGINIA

Amherst County

Fairview, 2416 Lowesville Rd., Amherst, 09000391, Listed, 6/03/09

Danville Independent City

Schoolfield School Complex, 31 Baltimore Ave., Danville, 09000392, Listed, 6/03/09

Floyd County

West Fork Furnace, VA 605, Floyd, 09000414, Listed, 6/05/09

Fredericksburg Independent City

Idlewild, 1501 Gateway Blvd., Fredericksburg, 09000415, Listed, 6/08/09

Gloucester County

Ware Neck Store and Post Office, 6495 VA 629, Ware Neck, 09000393, Listed, 6/03/09

Mathews County

B. Williams & Co. Store, 1030 Williams Wharf Rd., Mathews vicinity, 09000394, Listed, 6/03/09

Nelson County

Pharsalia, 2325 Pharsalia Rd., Tyro, 09000395, Listed, 6/03/09

Northumberland County

Bluff Point Graded School No. 3, 2595 Bluff Point Rd., Kilmarnock, 09000396, Listed, 6/03/09

[FR Doc. E9-18358 Filed 7-30-09; 8:45 am]

BILLING CODE P